DEPARTMENT OF LABOR

Occupational Safety and Health Administration

29 CFR Parts 1911 and 1912

[Docket No. OSHA-2025-0040]

RIN 1218-AD72

Construction Standards—Advisory Committee on Construction Safety and Health

AGENCY: Occupational Safety and Health Administration (OSHA), Labor.

ACTION: Final rule.

SUMMARY: This final rule revokes 29 CFR 1911.10, which required the Assistant Secretary for Occupational Safety and Health (Assistant Secretary), who heads OSHA, to consult with the Advisory Committee on Construction Safety and Health (ACCSH) in the formulation of rules to promulgate, modify, or revoke standards applicable to construction work, and 29 CFR 1912.3, the general OSHA regulations governing ACCSH. This final rule also makes corresponding changes to 29 CFR 1911.11, 29 CFR 1911.15, 29 CFR 1912.8, and 29 CFR 1912.9. OSHA is revoking 29 CFR 1911.10 and 29 CFR 1912.3 because these regulations impose requirements on the Assistant Secretary that are more burdensome than those mandated by statute, and compliance with these regulations would needlessly delay the Secretary of Labor's (Secretary) regulatory agenda. These changes will ensure that ACCSH is able to advise the Secretary on potential regulatory actions without adversely affecting the agency's regulatory timeline.

DATES: This final rule is effective July 1, 2025.

FOR FURTHER INFORMATION CONTACT:

For press inquiries: Contact Frank Meilinger, Director, OSHA Office of Communications, Occupational Safety and Health Administration; telephone: (202) 693-1999; email: meilinger.francis2@dol.gov.

General information and technical inquiries: Contact Andrew Levinson, Director, OSHA Directorate of Standards and Guidance, Occupational Safety and Health Administration; telephone: (202) 693-1950; email: osha.dsg@dol.gov.

Copies of this Federal Register notice: Electronic copies are available at https://www.regulations.gov. This Federal Register notice, as well as news releases and other relevant information, also are available at OSHA's web page at https://www.osha.gov. A “100-word summary” is also available on https://www.regulations.gov.

SUPPLEMENTARY INFORMATION

Table of Contents

I. Executive Summary

II. Pertinent Legal Authority

III. Summary and Explanation of Requirements

IV. Additional Requirements

A. Paperwork Reduction Act

B. Environmental Impacts/National Environmental Policy Act (NEPA)

C. Other Statutory and Executive Order Considerations

V. Authority and Signature

I. Executive Summary

The intent of this final rule is to remove unnecessary procedural requirements that are contrary to the Secretary's interest in moving forward quickly with deregulatory actions in accordance with Executive Order (E.O.) 14192, “Unleashing Prosperity Through Deregulation” (90 FR 9065, Feb. 6, 2025) and which are not statutorily required. The final rule removes the procedural requirements at 29 CFR 1911.10 and 29 CFR 1912.3 and makes corresponding revisions to other provisions referencing 29 CFR 1911.10, 29 CFR 1912.3, and the Construction Safety Act.

II. Pertinent Legal Authority

The Construction Safety Act (CSA), 40 U.S.C. 3704 (formerly 40 U.S.C. 333), created the Advisory Committee on Construction Safety and Health (ACCSH) to advise the Secretary on standard-setting and other matters. Section 3704(d)(4) provides that ACCSH “shall advise the Secretary (A) in formulating construction safety and health standards and other regulations; and (B) on policy matters arising in carrying out this section.”

OSHA promulgated regulations implementing the CSA, including 29 CFR 1911.10 and 1912.3. However, these regulations include unnecessary requirements which unduly inhibit the Secretary from moving forward expeditiously with her priorities. Other parts of the rescinded provisions are simply duplicative of requirements contained within the CSA, the Occupational Safety and Health Act of 1970 (OSH Act) (29 U.S.C. 651 et seq.), or OSHA's other regulations. For example, 29 CFR 1911.10 contains specific rules of procedure for promulgating, modifying, or revoking construction-related occupational safety or health standards. These rules are in many ways duplicative of the general rulemaking procedures contained in 29 CFR 1911.11, which apply to the promulgation, modification, or revocation of standards applicable to employments other than those in construction work, and OSHA finds that the few requirements that are contained within 29 CFR 1911.10 that vary from those in 29 CFR 1911.11 are unnecessary. Consequently, OSHA is revoking 29 CFR 1911.10, and revising 29 CFR 1911.11 to apply the general rulemaking procedures described therein to the promulgation, modification, or revocation of standards applicable to construction work. Further, OSHA is making minor modifications to three other regulations which reference 29 CFR 1911.10, 29 CFR 1912.3, or the CSA: 29 CFR 1911.15; 29 CFR 1912.8; and 29 CFR 1912.9.

Similarly, 29 CFR 1912.3 imposes additional requirements which are more burdensome than those mandated by the CSA. For example, 29 CFR 1912.3(b) expanded the committee's membership from the nine members required by the CSA to fifteen members. Per section 1912.3(c)(2), OSHA expanded the committee because “[g]reater membership and greater representation serve the public interest and avoid[ ] possible injustice by permitting for the most part the use of one advisory committee . . . in situations where both the [CSA] and [the OSH Act] may be expected to apply to construction activity. . . .” That same provision also indicated that the expanded membership serves the public interest and avoids possible injustice “by affording a greater opportunity for representation on the Advisory Committee within the construction industry.”

However, as to the use of a single committee, this regulation is unnecessary because although the Secretary is only required to consult with ACCSH in formulating standards under the CSA, the Committee's role in advising the Secretary is not limited to standards formulated under the CSA. 40 U.S.C. 3704(a)(2), (d)(4). Specifically, per 40 U.S.C. 3704(d)(4), ACCSH was created to advise the Secretary “in formulating construction safety and health standards and other regulations,” not just those standards formulated under the CSA. ACCSH is also tasked with advising the Secretary on policy matters arising in carrying out the CSA. 40 U.S.C. 3704(d)(4)(B). One such policy matter is the need for consistency between construction standards promulgated pursuant to the CSA and those promulgated pursuant to the OSH Act. Thus, if OSHA wished to consult the committee, ACCSH would have the authority to advise on construction standards promulgated under the OSH Act, as well as those under the CSA.

As to affording a greater opportunity for representation, in the decades since the promulgation of this regulation, OSHA has noted that stakeholders in the construction industry (including stakeholders in all of the membership categories created by 29 CFR 1912.3(b)(1)-(4)) have robustly participated in OSHA rulemakings, not only through serving on ACCSH but also through, among other things, submitting comments on Requests for Information and Notices of Proposed Rulemaking and testifying at OSHA's informal rulemaking hearings. Given that, OSHA finds that the nine-member committee contemplated by Congress provides sufficient committee representation to stakeholders in this important industry. Further, OSHA finds that this change is in line with the administration's policy of reducing the size of the American government while increasing accountability to the American people. See E.O. 14217, “Commencing the Reduction of the Federal Bureaucracy” (Feb. 19, 2025).

The other provisions contained in 29 CFR 1912.3, e.g., those establishing membership terms, cover topics that are within the Secretary's discretion and are already covered in the Committee's current charter or can be covered in future revisions of that charter.

This final rule constitutes a rule of agency organization, practice, or procedure. Hence, notice-and-comment procedures are not required. 5 U.S.C. 553(b). These amendments are to take effect immediately. Given the technical and procedural nature of these amendments, and the Secretary's interest in moving quickly to implement E.O. 14192, the agency finds that it is unnecessary to provide 30 days before this rule takes effect and hence has good cause for making the effective date immediate pursuant to 5 U.S.C. 553(d)(3).

III. Summary and Explanation of Requirements

The Assistant Secretary is revoking 29 CFR 1911.10 and 29 CFR 1912.3 in their entirety and making corresponding changes to 29 CFR 1911.11 to enable her to implement E.O. 14192 as expeditiously as possible, while still complying with the CSA's consultation requirements. Revoking 29 CFR 1911.10 and 29 CFR 1912.3 is necessary because these regulations unnecessarily limit the Secretary from moving forward expeditiously with her deregulatory agenda.

The Assistant Secretary is revoking 29 CFR 1911.10 in its entirety, which includes revoking general procedures for rulemaking in the construction context, e.g., procedures for notice, comments, and hearings. Previously, 29 CFR 1911.10(e) allowed the Assistant Secretary to follow the procedures in 29 CFR 1911.11 in any event, so the Secretary is revising 29 CFR 1911.11 to make clear that the procedures therein are applicable to the promulgation, modification, or revocation of construction standards in the absence of the procedures previously described in 29 CFR 1911.10.

The Assistant Secretary is also revoking 29 CFR 1912.3 in its entirety. Among other things, this change will decrease the committee's membership from fifteen members to the nine members envisioned by Congress when it promulgated the CSA. Further, the Assistant Secretary is revising three other regulations which reference 29 CFR 1911.10, 29 CFR 1912.3, or the CSA, i.e., 29 CFR 1911.15, 29 CFR 1912.8, and 29 CFR 1912.9.

IV. Additional Requirements

A. OMB Review Under the Paperwork Reduction Act of 1995 (PRA)

The PRA defines “collection of information” to mean “the obtaining, causing to be obtained, soliciting, or requiring the disclosure to third parties or the public, of facts or opinions by or for an agency, regardless of form or format” (44 U.S.C. 3502(3)(A)). Under the PRA, a Federal agency cannot conduct or sponsor a collection of information unless it is approved by OMB under the PRA and the agency displays a currently valid OMB control number (44 U.S.C. 3507). Also, notwithstanding any other provisions of law, no person shall be subject to penalty for failing to comply with a collection of information if the collection of information does not display a currently valid OMB control number (44 U.S.C. 3512(a)(1)). The process for OMB approval is found in 5 CFR part 1320.

This final rule imposes no new information collection requirements and thus the PRA does not apply.

B. Environmental Impacts/National Environmental Policy Act (NEPA)

OSHA has reviewed this final rule according to the National Environmental Policy Act of 1969 (NEPA) (42 U.S.C. 4321 et seq.), as amended by the Fiscal Responsibility Act of 2023 (Pub. L. 118-5, 321, 137 Stat. 10), and the Department of Labor's NEPA procedures (29 CFR part 11). OSHA has determined that this final rule will have no impact on the quality of the human environment.

C. Other Statutory and Executive Order Considerations

OSHA has examined this final rule and has determined that it is consistent with the policies and directives outlined in E.O. 14192. This procedural rule is expected to facilitate deregulatory actions under the Executive Order.

The Regulatory Flexibility Act (5 U.S.C. 601 et seq.) requires preparation of an initial regulatory flexibility analysis (IRFA) and a final regulatory flexibility analysis (FRFA) for any rule that by law must be proposed for public comment, unless the agency certifies that the rule, if promulgated, will not have a significant economic impact on a substantial number of small entities. The notice and comment rulemaking procedures of section 553 of the APA do not apply “to interpretative rules, general statements of policy, or rules of agency organization, procedure, or practice.” 5 U.S.C. 553(b)(A). Rules that are exempt from APA notice and comment requirements are also exempt from the Regulatory Flexibility Act (RFA). See SBA Office of Advocacy, A Guide for Government Agencies: How to Comply with the Regulatory Flexibility Act, at 9; also found at: https://www.sba.gov/advocacy/guide-government-agencies-how-comply-regulatory-flexibility-act. This is a rule of agency organization, procedure, and practice within the meaning of 5 U.S.C. 553; and, therefore, the rule is exempt from both the notice and comment rulemaking procedures of the APA and the requirements under the RFA.

Executive Order 12866, “Regulatory Planning and Review,” 58 FR 51735 (Oct. 4, 1993), requires agencies, to the extent permitted by law, to (1) propose or adopt a regulation only upon a reasoned determination that its benefits justify its costs (recognizing that some benefits and costs are difficult to quantify); (2) tailor regulations to impose the least burden on society, consistent with obtaining regulatory objectives, taking into account, among other things, and to the extent practicable, the costs of cumulative regulations; (3) select, in choosing among alternative regulatory approaches, those approaches that maximize net benefits; (4) to the extent feasible, specify performance objectives, rather than specifying the behavior or manner of compliance that regulated entities must adopt; and (5) identify and assess available alternatives to direct regulation, including providing economic incentives to encourage the desired behavior, such as user fees or marketable permits, or providing information upon which choices can be made by the public. Section 6(a) of E.O. 12866 also requires agencies to submit “significant regulatory actions” to OIRA for review. OIRA has determined that this final rule does not constitute a “significant regulatory action” under section 3(f) of E.O. 12866. Accordingly, this final rule was not submitted to OIRA for review under E.O. 12866.

OSHA has considered its obligations under the Unfunded Mandates Reform Act (UMRA) (2 U.S.C. 1501 et seq.), and the Executive Orders on Consultation and Coordination With Indian Tribal Governments (E.O. 13175, 65 FR 67249 (Nov. 6, 2000)), Federalism (E.O. 13132, 64 FR 43255 (Aug. 10, 1999)), and Protection of Children From Environmental Health Risks and Safety Risks (E.O. 13045, 62 FR 19885 (Apr. 23, 1997)). Given that this is a procedural rule that will have no economic impacts, and that the action does not constitute a policy that has federalism or tribal implications, OSHA has determined that no further agency action or analysis is required to comply with these statutes and executive orders.

V. Authority and Signature

Amanda Laihow, Acting Assistant Secretary of Labor for Occupational Safety and Health, authorized the preparation of this document under the authority granted by Sections 4, 6, and 8 of the Occupational Safety and Health Act of 1970 (29 U.S.C. 653, 655, 657); sections 1 and 4 of the Walsh-Healey Public Contracts Act (41 U.S.C. 35, 38); sections 2 and 4 of the Service Contracts Act of 1965 (41 U.S.C. 351, 353); section 107 of the Contract Work Hours and Safety Standards Act (Construction Safety Act) (40 U.S.C. 333); section 41 of the Longshoremen's and Harbor Workers' Compensation Act (33 U.S.C. 941); section 5(j)(2) of the National Foundation on Arts and Humanities Act (20 U.S.C. 954(j)(2)); 5 U.S.C. 553; and Secretary of Labor's Order No. 8-2020 (85 FR 58393); as applicable.

List of Subjects

29 CFR Part 1911_

Administrative practice and procedure, Occupational safety and health.

29 CFR Part 1912_

Advisory committees, Freedom of information, Occupational safety and health.

Dated: June 25, 2025.
Amanda Laihow,
Acting Assistant Secretary of Labor for Occupational Safety and Health.

For the reasons set forth in the preamble, OSHA is amending parts 1911 and 1912 as follows:

PART 1911—RULES OF PROCEDURE FOR PROMULGATING, MODIFYING, OR REVOKING OCCUPATIONAL SAFETY OR HEALTH STANDARDS

1. The authority for part 1911 is revised to read as follows:

Authority: Secs. 4, 6, 8, Occupational Safety and Health Act of 1970 (29 U.S.C. 653, 655, 657); secs. 1, 4, Walsh-Healey Public Contracts Act (41 U.S.C. 35, 38); secs. 2, 4, Service Contracts Act of 1965 (41 U.S.C. 351, 353); sec. 107, Contract Work Hours and Safety Standards Act (Construction Safety Act) (40 U.S.C. 333); sec. 41, Longshoremen's and Harbor Workers' Compensation Act (33 U.S.C. 941); sec. 5(j)(2), National Foundation on Arts and Humanities Act (20 U.S.C. 954(j)(2)); 5 U.S.C. 553; Secretary of Labor's Order No. 12-71 (36 FR 8754), 8-76 (41 FR 25059), 9-83 (48 FR 35736), or 8-2020 (85 FR 58393), as applicable. Sections 1911.12 and 1911.18 also issued under 29 CFR part 1911.

§ 1911.10 [Removed and Reserved]

2. Remove and reserve § 1911.10.

3. Amend § 1911.11 by revising the section heading and revising and republishing the introductory text and paragraph (a) to read as follows:

§ 1911.11 Standards.

The Assistant Secretary may promulgate, modify, or revoke a standard in the following manner:

(a) The Assistant Secretary may request the recommendations of an advisory committee appointed under section 7 of the Act or other statutory authority. In such event, the Assistant Secretary shall submit to the committee any proposal of his own or of the Secretary of Health, Education, and Welfare, together with all pertinent factual information available to him, including the results of research, demonstrations, and experiments. The committee shall submit to the Assistant Secretary its recommendations regarding the rule to be promulgated within the period prescribed by the Assistant Secretary, which in no event shall be longer than 270 days.

* * * * *

4. Amend § 1911.15 by revising and republishing paragraph (a)(1) to read as follows:

§ 1911.15 Nature of hearing.

(a) * * *

(1) The legislative history of section 6 indicates that Congress intended informal rather than formal rulemaking procedures to apply. See the Conference Report, H. Rept. No. 91-1765, 91st Cong., second sess., 34 (1970). The informality of the proceedings is also suggested by the fact that section 6(b) permits the making of a decision on the basis of written comments alone (unless an objection to a rule is made and a hearing is requested), the use of advisory committees, and the inherent legislative nature of the tasks involved. For these reasons, the proceedings pursuant to § 1911.11 shall be informal.

* * * * *

PART 1912—ADVISORY COMMITTEES ON STANDARDS

5. The authority for part 1912 continues to read as follows:

Authority: 29 U.S.C. 653, 655, 656, 657; 5 U.S.C. 553; 5 U.S.C. App. 2; 40 U.S.C. 333; Secretary of Labor's Order No. 12-71 (36 FR 8754), 8-76 (41 FR 25059), 9-83 (48 FR 35736), 3-2000 (65 FR 50017), or 8-2020 (85 FR 58393), as applicable.

§ 1912.3 [Removed and Reserved]

6. Remove and reserve § 1912.3.

7. Amend § 1912.8 by revising and republishing paragraph (b)(9) to read as follows:

§ 1912.8 Committee Charters.

* * * * *

(b) * * *

(9) The committee's termination date or other fixed period of termination, if less than 2 years; and

* * * * *

§ 1912.9 [Amended]

8. Amend § 1912.9 by removing paragraph (d).

[FR Doc. 2025-12011 Filed 6-30-25; 8:45 am]

BILLING CODE 4510-26-P